DEPARTMENT OF STATE

[Public Notice: 9872]

Advisory Committee on International Economic Policy; Notice of Open Meeting

The Advisory Committee on International Economic Policy (ACIEP) will meet from 2:00 until 5:00 p.m., on Tuesday, February 28, in Washington, DC at the State Department, 320 21st St. NW. The meeting will be hosted by the Acting Assistant Secretary of State for Economic and Business Affairs, Patricia M. Haslach, and Committee Chair Paul R. Charron. The ACIEP serves the U.S. government in a solely advisory capacity, and provides advice concerning topics in international economic policy. It is expected that during this meeting, the ACIEP subcommittee on sanctions policy and the Stakeholder Advisory Board will provide updates on their recent work.

This meeting is open to the public, though seating is limited. Entry to the building is controlled. To obtain pre-clearance for entry, members of the public planning to attend must, no later than Tuesday, February 21, provide their full name and professional affiliation (if any) to Alan Krill by email: KrillA@state.gov. Requests for reasonable accommodation should also be made to Alan Krill before Tuesday, February 21. Requests made after that date will be considered, but might not be possible to fulfill.

For additional information, contact Alan Krill, Bureau of Economic and Business Affairs, at (202) 647-2231, or KrillA@state.gov.

Alan Krill,
Designated Federal Officer, U.S. Department of State.

[FR Doc. 2017-02435 Filed 2-6-17; 8:45 am]

BILLING CODE 4710-05-P